DEPARTMENT OF THE INTERIOR

National Park Service

[NPS-WASO-NAGPRA-NPS0029471; PPWOCRADN0-PCU00RP14.R50000]

Notice of Inventory Completion: U.S. Department of the Interior, National Park Service, Lake Meredith National Recreation Area, Fritch, TX; Correction; Correction

AGENCY: National Park Service, Interior.

ACTION: Notice; correction.

SUMMARY: The U.S. Department of the Interior, National Park Service, Lake Meredith National Recreation Area has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Lake Meredith National Recreation Area. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Lake Meredith National Recreation Area at the address in this notice by February 27, 2020.

ADDRESSES: Eric Smith, Superintendent, Lake Meredith National Recreation Area, P.O. Box 1460, Fritch, TX 79036, telephone (806) 857-0300, email eric_smith@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Lake Meredith National Recreation Area, Fritch, TX. The human remains and associated funerary objects were removed from sites in Potter County, TX.

This notice is published as part of the National Park Service's administrative responsibilities under NAGPRA, 25 U.S.C. 3003(d)(3). The determinations in this notice are the sole responsibility of the Superintendent, Lake Meredith National Recreation Area.

This notice corrects the minimum number of individuals, number of associated funerary objects, cultural affiliation, and one site number reported in two previously published notices: Notice of Inventory Completion (66 FR 32845-32846, June 18, 2001); and corrected Notice of Inventory Completion (82 FR 33512-33513, July 20, 2017). This notice replaces both the original Notice of Inventory Completion of June 18, 2001 and the corrected Notice of Inventory Completion of July 20, 2017. It was discovered during preparation for repatriation that some associated funerary objects had been inadvertently omitted from the published notices, one site number had been incorrectly recorded in the June 2001 notice, and one individual was described in both the June 2001 notice and a 2018 Notice of Inventory Completion (83 FR 04250-04251, January 30, 2018). Additional information received during later consultations and site visits resulted in a change to the determination of cultural affiliation. Transfer of control of the items in this correction notice has not occurred.

Consultation

A detailed assessment of the human remains was made by Lake Meredith National Recreation Area professional staff in consultation with representatives of the Caddo Nation of Oklahoma; Cheyenne and Arapaho Tribes, Oklahoma (previously listed as the Cheyenne-Arapaho Tribes of Oklahoma); Comanche Nation, Oklahoma; Kiowa Indian Tribe of Oklahoma; Pawnee Nation of Oklahoma; Wichita and Affiliated Tribes (Wichita, Keechi, Waco & Tawakonie), Oklahoma; and the Cohuiltecan Nation, a non-federally recognized Indian group.

History and Description of the Remains

In 1961, human remains representing, at minimum, one individual were removed from State Site 41PT12 in Potter County, TX, during a legally authorized survey of the area then under the management of the U.S. Department of the Interior, Bureau of Reclamation. No known individuals were identified. No associated funerary objects are present. Items found elsewhere at the site indicate that these human remains probably were buried during the Late Prehistoric period (A.D. 900-1700).

In 1964, human remains representing, at minimum, 43 individuals were removed from the Footprint site in Potter County, TX, then under the management of the U.S. Department of the Interior, Bureau of Reclamation, during a legally authorized excavation by F.E. Green of Texas Tech University. No known individuals were identified. The 928 associated funerary objects are two pots, 70 shell beads, 11 knives or knife fragments, 14 awls, two shell pendants, one pipe, 417 pieces of debitage, three stones, five flakes, seven bones, 155 bone scraps, 54 sherds, 40 pieces of daub, one piece of ochre, one worked shell, 70 charcoal samples, four soil samples, one chopper, one mano fragment, two bifaces, one uniface, five projectile points, one basketry fragment, nine worked bones, two shell gorgets, 13 worked flakes, 35 unworked bones, and one wood sample. The associated funerary objects indicate that these human remains were probably buried during the Antelope Creek Focus of the Plains Village-Panhandle Aspect (A.D. 1100-1400).

On March 15, 1965, Lake Meredith National Recreation Area, then called Sanford National Recreation Area, came under the joint administration of the Bureau of Reclamation and the National Park Service. Control of the collections recovered prior to that date has been assumed by the National Park Service.

In June 1969, human remains representing, at minimum, four individuals were removed from Blue Creek Site in Potter County, TX, during legally authorized excavations by the Texas Archaeological Society. No known individuals were identified. The 266 associated funerary objects are three flakes, one bone scrap, two mineral specimens, 253 sherds, three pebbles, three projectile points, and one bone artifact. The associated funerary objects indicate that these human remains were probably buried during the Plains Village-Panhandle Aspect (A.D. 1100-1400).

Archeological information indicates a continuous occupation of the Texas panhandle area from A.D. 1 through the Plains Village-Panhandle Aspect. Wichita oral tradition links these earlier populations with the Escanxaques, or Iscani people, a constituent band of the present-day Wichita and Affiliated Tribes (Wichita, Keechi, Waco & Tawakonie), Oklahoma. Anthropological literature, archeological data, and tribal oral histories identify these peoples as being predecessors to the Pawnee Nation of Oklahoma and Wichita and Affiliated Tribes (Wichita, Keechi, Waco & Tawakonie), Oklahoma.

Determinations Made by the U.S. Department of Interior, National Park Service, Lake Meredith National Recreation Area

Officials of U.S. Department of Interior, National Park Service, Lake Meredith National Recreation Area have determined that:

• Pursuant to 25 U.S.C. 3001(9), the human remains described in this notice represent the physical remains of 48 individuals of Native American ancestry.

• Pursuant to 25 U.S.C. 3001(3)(A), the 1,194 objects described in this notice are reasonably believed to have been placed with or near individual human remains at the time of death or later as part of the death rite or ceremony.

• Pursuant to 25 U.S.C. 3001(2), there is a relationship of shared group identity that can be reasonably traced between the Native American human remains and associated funerary objects and the Pawnee Nation of Oklahoma and the Wichita and Affiliated Tribes (Wichita, Keechi, Waco & Tawakonie), Oklahoma.

Additional Requestors and Disposition

Lineal descendants or representatives of any Indian Tribe or Native Hawaiian organization not identified in this notice that wish to request transfer of control of these human remains and associated funerary objects should submit a written request with information in support of the request to Eric Smith, Superintendent, Lake Meredith National Recreation Area, P.O. Box 1460, Fritch, TX 79036, telephone (806) 857-0300, email eric_smith@nps.gov, by February 27, 2020. After that date, if no additional requestors have come forward, transfer of control of the human remains and associated funerary objects to the Pawnee Nation of Oklahoma and the Wichita and Affiliated Tribes (Wichita, Keechi, Waco & Tawakonie), Oklahoma may proceed.

The U.S. Department of the Interior, National Park Service, Lake Meredith National Recreation Area is responsible for notifying the Caddo Nation of Oklahoma; Cheyenne and Arapaho Tribes, Oklahoma (previously listed as the Cheyenne-Arapaho Tribes of Oklahoma); Comanche Nation, Oklahoma; Kiowa Indian Tribe of Oklahoma; Pawnee Nation of Oklahoma; Wichita and Affiliated Tribes (Wichita, Keechi, Waco & Tawakonie), Oklahoma; and Cohuiltecan Nation, a non-federally recognized Indian group, that this notice has been published.

Dated: December 6, 2019.
Melanie O'Brien,
Manager, National NAGPRA Program.

[FR Doc. 2020-01355 Filed 1-27-20; 8:45 am]

BILLING CODE 4312-52-P